DEPARTMENT OF HEALTH AND HUMAN SERVICES

Centers for Disease Control and Prevention

Notice of Intent To Award Affordable Care Act (ACA) Funding

Notice of Intent to award Affordable Care Act (ACA) funding to two Emerging Infections Program (EIP) grantees, the Connecticut Department of Public Health and the Georgia Department of Community Health, to increase support for vaccine effectiveness activities for rotavirus vaccine and pneumococcal conjugate vaccine. These activities were proposed in the grantees' Fiscal Year (FY) 2011 non-competitive continuation applications under funding opportunity CI05-026, “Emerging Infections Program (EIP).”

AGENCY: Centers for Disease Control and Prevention (CDC), Department of Health and Human Services (HHS).

ACTION: Notice.

SUMMARY: This notice provides public announcement of CDC's intent to award Affordable Care Act (ACA) appropriations to the Connecticut Department of Public Health and the Georgia Department of Community Health to conduct vaccine effectiveness activities for rotavirus vaccine and 13-valent pneumococcal conjugate vaccine (PCV). These activities were requested by the two grantees in their FY 2011 non-competitive continuation applications submitted under funding opportunity CI05-026, “Emerging Infections Program (EIP),” Catalogue of Federal Domestic Assistance Number (CFDA): 93.283. Due to a lack of funding availability, these activities were either approved but unfunded or only partially funded in the grantee's FY 2011 continuation award.

Only these two EIP sites requested funding for the rotavirus activities and only one site (Georgia) requested funding for the PCV activities. Since no other EIP sites requested funding for these specific activities, Connecticut and Georgia will be the only sites receiving funding for these activities.

Approximately $433,500 in ACA funding will be awarded, which includes $333,500 for Rotavirus and $100,000 for PCV, to increase the amount of funding available to evaluate the effectiveness of new rotavirus and PCV vaccines currently being monitored through the aforementioned participating EIP sites. Funding is appropriated under the Affordable Care Act (PL 111-148), Title IV, Section 4002 (Prevention and Public Health Fund).

Accordingly, CDC adds the following information to the previously published funding opportunity announcement:

—Authority: Affordable Care Act (Pub. L. 111-148), Title IV, Section 4002 (Prevention and Public Health Fund).

—CFDA #: 93.521—CDC—Investigations, Technical Assistance and Affordable Care Act Projects.

Award Information:

Type of Award: Supplement to existing cooperative agreement.

Approximate Total Current Fiscal Year ACA Funding: $433,500.

Rotavirus (CT & GA): $333,500.

PCV (GA only): $100,000.

Anticipated Number of Awards: 2.

Fiscal Year Funds: 2011.

Anticipated Award Date: June 2011.

Application Selection Process:

Funding will be awarded to only those sites that included proposals for the specific rotavirus and PCV vaccine effectiveness activities in their EIP FY 2011 continuation application.

Funding Authority:

CDC will add the ACA Authority to that which is reflected in the published Funding Opportunity CDC-RFA-CI05-026. The revised funding authority language will read:

—This program is authorized under the Public Health Service Act Sections 301(a)[42 U.S.C. 241(a)], 317(k)(1)[42 U.S.C. 247b(k)(1)], and 317(k)(2)[42 U.S.C. 247b(k)(2)], as amended, and Affordable Care Act (Pub. L. 111-148), Title IV, Section 4002 (Prevention and Public Health Fund).

DATES: The effective date for this action is the date of publication of this Notice and remains in effect until the expiration of the project period of the ACA funded applications.

FOR FURTHER INFORMATION CONTACT: Elmira Benson, Acting Deputy Director, Centers for Disease Control and Prevention, 2920 Brandywine Road, Atlanta, GA 30341, telephone (770) 488-2802, e-mail Elmira.Benson@cdc.gov.

SUPPLEMENTARY INFORMATION: On March 23, 2010, the President signed into law the Affordable Care Act (ACA), Public Law 111-148. ACA is designed to improve and expand the scope of health care coverage for Americans. Cost savings through disease prevention is an important element of this legislation and ACA has established a Prevention and Public Health Fund (PPHF) for this purpose. Specifically, the legislation states in Section 4002 that the PPHF is to “provide for expanded and sustained national investment in prevention and public health programs to improve health and help restrain the rate of growth in private and public sector health care costs.” ACA and the Prevention and Public Health Fund make improving public health a priority with investments to improve public health.

The PPHF states that the Secretary shall transfer amounts in the Fund to accounts within the Department of Health and Human Services to increase funding, over the fiscal year 2008 level, for programs authorized by the Public Health Service Act, for prevention, wellness and public health activities including prevention research and health screenings, such as the Community Transformation Grant Program, the Education and Outreach Campaign for Preventative Benefits, and Immunization Programs.

ACA legislation affords an important opportunity to advance public health across the lifespan and to reduce health disparities by supporting an intensive community approach to chronic disease prevention and control. Therefore, increasing funding available to applicants under this FOA using the PPHF to continue monitoring the effectiveness of vaccines is consistent with the purpose of the PPHF, as stated above, to provide for an expanded and sustained national investment in prevention and public health programs. Further, the Secretary allocated funds to CDC, pursuant to the PPHF, for the types of activities this FOA is designed to carry out.

Dated: March 25, 2011.
Tanja Popovic,
Deputy Associate Director for Science, Centers for Disease Control and Prevention.

[FR Doc. 2011-8653 Filed 4-11-11; 8:45 am]

BILLING CODE 4163-18-P